DEPARTMENT OF HOMELAND SECURITY

Coast Guard

[USCG-2010-0858]

Information Collection Request to Office of Management and Budget; OMB Control Numbers: 1625-0002, 1625-0017, 1625-0019, and 1625-0030

AGENCY: Coast Guard, DHS.

ACTION: Sixty-day notice requesting comments.

SUMMARY: In compliance with the Paperwork Reduction Act of 1995, the U.S. Coast Guard intends to submit Information Collection Requests (ICRs) and Analyses to the Office of Management and Budget (OMB) requesting an extension of its approval for the following collections of information: (1) 1625-0002, Applications for Vessel Inspection, Waiver, and Continuous Synopsis Record; (2) 1625-0017, Various International Agreement Safety Certificates and Documents; (3) 1625-0019, Alternative Compliance for International and Inland Navigation Rules—33 CFR Parts 81 and 89; (4) and 1625-0030, Oil and Hazardous Materials Transfer Procedures. Before submitting these ICRs to OMB, the Coast Guard is inviting comments as described below.

DATES: Comments must reach the Coast Guard on or before November 22, 2010.

ADDRESSES: To avoid duplicate submissions to the docket [USCG-2010-0858], please use only one of the following means:

(1) Online: http://www.regulations.gov.

(2) Mail: Docket Management Facility (DMF) (M-30), U.S. Department of Transportation (DOT), West Building Ground Floor, Room W12-140, 1200 New Jersey Avenue, SE., Washington, DC 20590-0001.

(3) Hand deliver: Same as mail address above, between 9 a.m. and 5 p.m., Monday through Friday, except Federal holidays. The telephone number is 202-366-9329.

(4) Fax: 202-493-2251.

The DMF maintains the public docket for this Notice. Comments and material received from the public, as well as documents mentioned in this Notice as being available in the docket, will become part of the docket and will be available for inspection or copying at room W12-140 on the West Building Ground Floor, 1200 New Jersey Avenue, SE., Washington, DC, between 9 a.m. and 5 p.m., Monday through Friday, except Federal holidays. You may also find the docket on the Internet at http://www.regulations.gov.

Copies of the ICRs are available through the docket on the Internet at http://www.regulations.gov. Additionally, copies are available from: Commandant (CG-611), Attn: Paperwork Reduction Act Manager, U.S. Coast Guard, 2100 2nd St., SW., Stop 7101, Washington, DC 20593-7101.

FOR FURTHER INFORMATION CONTACT: Contact Mr. Arthur Requina, Office of Information Management, telephone 202-475-3523, or fax 202-475-3929, for questions on these documents. Contact Ms. Renee V. Wright, Program Manager, Docket Operations, 202-366-9826, for questions on the docket.

SUPPLEMENTARY INFORMATION:

Public Participation and Request for Comments

The Coast Guard invites comments on whether these ICRs should be granted based on the collections being necessary for the proper performance of Departmental functions. In particular, the Coast Guard would appreciate comments addressing: (1) The practical utility of the collections; (2) the accuracy of the estimated burden of the collections; (3) ways to enhance the quality, utility, and clarity of information subject to the collections; and (4) ways to minimize the burden of the collections on respondents, including the use of automated collection techniques or other forms of information technology.

We encourage you to respond to this request by submitting comments and related materials. We will post all comments received, without change, to http://www.regulations.gov. They will include any personal information you provide. We have an agreement with DOT to use their DMF. Please see the “Privacy Act” paragraph below.

Submitting comments: If you submit a comment, please include the docket number [USCG-2010-0858], indicate the specific section of the document to which each comment applies, providing a reason for each comment. We recommend you include your name, mailing address, an e-mail address, or other contact information in the body of your document so that we can contact you if we have questions regarding your submission. You may submit your comments and material by electronic means, mail, fax, or delivery to the DMF at the address under ADDRESSES; but please submit them by only one means. If you submit them by mail or delivery, submit them in an unbound format, no larger than 8½ by 11 inches, suitable for copying and electronic filing. If you submit them by mail and would like to know that they reached the Facility, please enclose a stamped, self-addressed postcard or envelope. We will consider all comments and material received during the comment period and will address them accordingly.

Viewing comments and documents: Go to http://www.regulations.gov to view documents mentioned in this Notice as being available in the docket. Enter the docket number for this Notice [USCG-2010-0858] in the Search box, and click “Go >>.” You may also visit the DMF in room W12-140 on the West Building Ground Floor, 1200 New Jersey Avenue, SE., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act statement regarding our public dockets in the January 17, 2008 issue of the Federal Register (73 FR 3316).

Information Collection Request

1. Title: Applications for Vessel Inspection, Waiver, and Continuous Synopsis Record

OMB Control Number: 1625-0002.

Summary: The collection of information requires the owner, operator, agent, or master of a vessel to apply in writing to the Coast Guard before the commencement of an inspection for certification; when a waiver is desired from the requirements of navigation and vessel inspection; or, to request a Continuous Synopsis Record.

Need: Title 46 U.S.C. 3306 and 3309 authorize the Coast Guard to establish regulations to protect life, property, and the environment. These reporting requirements are part of the Coast Guard's Marine Safety Program.

Forms: CG-2633, CG-3752, CG-3752A, CG-6039.

Respondents: Vessel owner, operator, agent, master or interested U.S. Government agency.

Frequency: On occasion, annually, or on a 5-year cycle.

Burden Estimate: The estimated burden has increased from 848 hours to 1,315 hours a year.

2. Title: Various International Agreement Safety Certificates and Documents

OMB Control Number: 1625-0017.

Summary: The associated 15 forms are evidence of compliance with the International Convention for Safety of Life at Sea, 1974 (SOLAS) for certain U.S. vessels on international voyages. Without the proper certificates or documents, a U.S. vessel could be detained in a foreign port.

Need: SOLAS applies to all mechanically propelled cargo vessels of 500 or more gross tons (GT), and to all mechanically propelled passenger vessels carrying more than 12 passengers that engage in international voyages. SOLAS and title 46 CFR 2.01-25 list certificates and documents that may be issued to vessels.

Forms: CG-967, CG-968, CG-968A, CG-969, CG-3347, CG-3347B, CG-4359, CG-4360, CG-4361, CG-5643, CG-5679, CG-5679A, CG-5680, CG-6038, CG-6038A.

Respondents: Owners and operators of SOLAS vessels.

Frequency: On occasion.

Burden Estimate: The estimated burden has increased from 127 hours to 169 hours a year.

3. Title: Alternative Compliance for International and Inland Navigation Rules—33 CFR Parts 81 and 89

OMB Control Number: 1625-0019.

Summary: The information collected provides an opportunity for an owner, operator, builder, or agent of a unique vessel to present their reasons why the vessel cannot comply with existing International/Inland Navigation Rules, and, how alternative compliance can be achieved. If appropriate, a Certificate of Alternative Compliance is issued.

Need: Certain vessels cannot comply with the International Navigation Rules (see 33 U.S.C. 1601 through 1608; 28 U.S.T. 3459, and T.I.A.S. 8587) and Inland Navigation Rules (33 U.S.C. 2001 through 2073). The Coast Guard thus provides an opportunity for alternative compliance. However, it is not possible to determine whether appropriate, or what kind of alternative procedures might be necessary, without this collection.

Forms: None.

Respondents: Vessel owners, operators, builders and agents.

Frequency: One-time application.

Burden Estimate: The estimated burden has decreased from 122 hours to 50 hours a year.

4. Title: Oil and Hazardous Materials Transfer Procedures

OMB Control Number: 1625-0030.

Summary: The collection of information requires vessels with a cargo capacity of 250 barrels or more of oil/hazardous materials to develop and maintain transfer procedures. Transfer procedures provide basic safety information with the goal of pollution prevention.

Need: Title 33 U.S.C. 1231 authorizes the Coast Guard to prescribe regulations related to the prevention of pollution. Title 33 CFR Part 155 prescribes pollution prevention regulations including those related to transfer procedures.

Forms: None.

Respondents: Operators of certain vessels.

Frequency: On occasion.

Burden Estimate: The estimated burden has increased from 133 hours to 164 hours a year.

Dated: September 15, 2010.
R.E. Day,
Rear Admiral, U.S. Coast Guard, Assistant Commandant for Command, Control, Communications, Computers and Information Technology.

[FR Doc. 2010-23612 Filed 9-21-10; 8:45 am]

BILLING CODE 9110-04-P